NUCLEAR REGULATORY COMMISSION

[Docket No. 40-8006]

Notice of Termination of Release of Kerr McGee Corporation, Technical Center, in Oklahoma City, OK for Unrestricted Use

AGENCY: Nuclear Regulatory Commission.

ACTION: Notice of license termination and site release for unrestricted use.

FOR FURTHER INFORMATION CONTACT: Rachel S. Browder, M.S., Health Physicist, Nuclear Materials Licensing Branch, Division of Nuclear Materials Safety, Region IV, U.S. Nuclear Regulatory Commission, 611 Ryan Plaza Drive, Suite 400, Arlington, Texas 76011; Telephone: (817) 276-6552; fax number: (817) 860-8122; e-mail: rsb3@nrc.gov.

SUPPLEMENTARY INFORMATION:

I. Introduction

Pursuant to 10 CFR Part 2.106, the U.S. Nuclear Regulatory Commission (NRC) is providing notice of termination of Source Material License No. SUB-986, and authorizing the release of Kerr McGee Corporation Technical Center (Licensee) located at 3301 NW 150th Street, Oklahoma City, Oklahoma, for unrestricted use. The Licensee's request for an amendment to authorize decommissioning of its Technical Center was previously noticed in the Federal Register on July 12, 2001 (66 FR 36605) with an opportunity for hearing.

Kerr McGee Corporation provided a final radiological status survey and performed an indoor and outdoor dose analysis to demonstrate the site meets the license termination criteria in Subpart E of 10 CFR Part 20. In addition, NRC staff conducted independent measurements of soils and surfaces at the site. The NRC staff has evaluated Kerr McGee Corporation's request, reviewed the results of the final radiological survey, and determined that the site meets the unrestricted use dose criteria in 10 CFR 20.1402. The Commission has concluded that the site is suitable for release for unrestricted use and has terminated the license for Kerr McGee Corporation Technical Center, Oklahoma City, Oklahoma, property. The NRC staff issued a Final Safety Evaluation Report (SER) on August 1, 2005, to support the proposed action.

II. Further Information

The NRC has prepared a Final SER that documents the information that was reviewed and NRC's conclusion. In accordance with 10 CFR 2.390 of the NRC's “Rules of Practice,” details with respect to this action, including the Final SER and accompanying documentation included in the license amendment package are available electronically at the NRC's Electronic Reading Room at http://www.nrc.gov/reading-rm/adams.html. From this site, you may access the NRC's Agencywide Document Access and Management System (ADAMS), which provides text and image files of NRC's public documents. The ADAMS accession numbers for the documents related to this notice are: Kerr McGee Technical Center (KMTC) “Revised Decommissioning Plan,” April 5, 2001, ML011840119 and ML011840269; KMTC Response to NRC Request for Information, March 6, 2002, ML020670216; KMTC Clarification and Modification to DCGLs, October 16, 2002, ML022940089; KMTC Final Status Survey Report Outdoor Survey Units, September 2003, ML033020108; KMTC Final Status Survey Report Indoor Survey Units, April 2004, ML041100784; KMTC Supplement to Indoor Final Status Survey Report, December 2004, ML043520247; Final Safety Evaluation Report, August 1, 2005, ML052130413. If you do not have access to ADAMS or if there are problems with accessing the documents located in ADAMS, contact the NRC Public Document Room (PDR) Reference staff at (800) 397-4203, (301) 415-4737, or by e-mail to pdr@nrc.gov.

These documents may also be viewed electronically on the public computers located at the NRC's PDR, O1 F21, One White Flint North, 11555 Rockville Pike, Rockville, MD 20852. The PDR reproduction contractor will copy documents for a fee.

Dated at Arlington, Texas, this 15th day of August, 2005.
For the Nuclear Regulatory Commission.
D. Blair Spitzberg,
Chief, Fuel Cycle Decommissioning Branch, Division of Nuclear Materials Safety, Region IV.

[FR Doc. E5-4619 Filed 8-23-05; 8:45 am]

BILLING CODE 7590-01-P